DEPARTMENT OF HEALTH AND HUMAN SERVICES

Indian Health Service

Request for Public Comment: 30-Day Proposed Information Collection: Indian Health Service Contract Health Services Report

AGENCY: Indian Health Service, HHS.

ACTION: Notice.

SUMMARY: In compliance with Section 3506(c)(2)(A) of the Paperwork Reduction Act of 1995 which requires a 30-day advance opportunity for public comment on the proposed information collection project, Indian Health Service (IHS) is publishing for comment a summary of a proposed information collection to be submitted to the Office of Management and Budget (OMB) for review.

The IHS received no comments in response to the 60-day Federal Register notice 74 FR 47801 published on September 17, 2009. The purpose of this notice is to allow an additional 30 days for public comment to be submitted directly to OMB.

Proposed Collection

Title: 0917-0002, “Indian Health Service Contract Health Services Report.” Type of Information Collection Request: Three year renewal, with change of currently approved information collection, 0917-0002, “Indian Health Service Contract Health Services Report.” Form Number: IHS 843-1A. Reporting formats are contained in an IHS Contract Health Services Manual Exhibit and IHS Web site. Need and Use of Information Collection: The IHS Contract Health Services Program needs this information to certify that the health care services requested and authorized by the IHS have been performed by the Contract Health Services provider(s); to have providers validate services provided; to process payments for health care services performed by such providers; and to serve as a legal document for health and medical care authorized by IHS and rendered by health care providers under contract with the IHS. Affected Public: Patients, health and medical care providers or Tribal Governments. Type of Respondents: Health and medical care providers.

The table below provides: Types of data collection instruments, Estimated number of respondents, Number of responses per respondent, Annual number of responses, Average burden hour per response, and Total annual burden hours.

Data collection instrument(s) | Estimated number of respondents | Responses per respondent | Annual number of responses | Average burden hour per response* | Total annual burden hours
IHS-843-1A | 7,424 | 51 | 378,624 | 0.05 (3 mins) | 18,931
IDS** | 15,157 | 1 | 15,157 | 0.05 (3 mins) | 758
Total | 22,581 |  |  |  | 19,689
*For ease of understanding, burden hours are also provided in actual minutes.
**Inpatient Discharge Summary (IDS)

There are no Capital Costs, Operating Costs, and/or Maintenance Costs to report.

Request for Comments: Your written comments and/or suggestions are invited on one or more of the following points: (a) Whether the information collection activity is necessary to carry out an agency function; (b) whether the IHS processes the information collected in a useful and timely fashion; (c) the accuracy of the public burden estimate (this is the amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time to: Office of Management and Budget, Attention: Desk Officer for IHS, Office of Regulatory Affairs, New Executive Office Building, Room 10235, Washington, DC 20503.

Send Comments and Requests for Further Information: To request more information on the proposed collection or to obtain a copy of the data collection instrument and/or instructions, contact: Ms. Betty Gould, Reports Clearance Officer, 801 Thompson Avenue, TMP, Suite 450, Rockville, MD 20852, call non-toll free (301) 443-7899, send via facsimile to (301) 443-9879, or send your e-mail requests, comments, and return address to: Betty.Gould@ihs.gov.

Comment Due Date: Your comments regarding this information collection are best assured of having full effect if received within 30 days of the date of this publication.

Dated: December 11, 2009.
Yvette Roubideaux,
Director, Indian Health Service.

[FR Doc. E9-30115 Filed 12-17-09; 8:45 am]

BILLING CODE 4165-16-P